DEPARTMENT OF COMMERCE

International Trade Administration

A-423-808

Stainless Steel Plate in Coils from Belgium: Notice of Rescission of Antidumping Duty Administrative Review

AGENCY: Import Administration, International Trade Administration, U.S. Department of Commerce.

SUMMARY: On July 3, 2006, in response to a timely request from Ugine & ALZ Belgium (respondent), the Department of Commerce (the Department) initiated an administrative review of the antidumping duty order on stainless steel plate in coils (SSPC) from Belgium. See Initiation of Antidumping and Countervailing Duty Administrative Reviews, 71 FR 37892 (July 3, 2006) (Initiation Notice). This administrative review covered the period May 1, 2005 through April 30, 2006. We are now rescinding this review as a result of respondent's withdrawal of its request for an administrative review of this order.

EFFECTIVE DATE: August 22, 2006.

FOR FURTHER INFORMATION CONTACT: Toni Page or Elfi Blum, AD/CVD Operations, Office 6, Import Administration, International Trade Administration, U.S. Department of Commerce, 14th Street and Constitution Avenue, NW, Room 7866, Washington, DC 20230; telephone: (202) 482-1398 and (202) 482-0197, respectively.

SUPPLEMENTARY INFORMATION:

Background

On May 1, 2006, the Department published a notice of “Opportunity to Request Administrative Review” of the antidumping duty order for the period of May 1, 2005 through April 30, 2006. See Antidumping or Countervailing Duty Order, Finding, or Suspended Investigation: Opportunity to Request Administrative Review, 71 FR 25565 (May 1, 2006). On May 31, 2006, respondent requested a review of the antidumping duty order on SSPC from Belgium. Respondent was the only party to request an administrative review. In response to this request, on July 3, 2006, the Department initiated an antidumping duty administrative review on SSPC from Belgium. See Initiation Notice.

On August 8, 2006, pursuant to section 351.213(d)(1) of the Department's regulations, respondent withdrew its request for an administrative review of the antidumping duty order on SSPC from Belgium. No other party requested an administrative review of this antidumping duty order.

Rescission of the Administrative Review

Pursuant to section 351.213(d)(1) of the Department's regulations, the Secretary will rescind an administrative review, in whole or in part, if a party that requested the review withdraws the request within 90 days of the date of publication of notice of initiation of the requested review. The initiation notice for this review was published on July 3, 2006. We received respondent's withdrawal request on August 8, 2006, within 90 days after publication of the initiation notice. Since respondent withdrew its request for review of the antidumping duty order in a timely manner, and since it was the only party that requested a review, the Department is rescinding this administrative review.

Assessment

The Department will instruct U.S. Customs and Border Protection (CBP) to assess antidumping duties on all appropriate entries. For the company for which this review is rescinded, antidumping duties shall be assessed at rates equal to the cash deposit of estimated antidumping duties required at the time of entry, or withdrawal from warehouse, for consumption, in accordance with 19 CFR 351.212(c)(1)(I). The Department will issue appropriate assessment instructions to CBP within 15 days of publication of this notice.

Notification to Importers

This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulation. Timely written notification of the return or destruction of APO materials or conversion to judicial protective order is hereby requested. Failure to comply with the regulations and terms of an APO is a sanctionable violation.

This notice is issued and published in accordance with section 777(i) of the Act and section 351.213(d)(4) of the Department's regulations.

Dated: August 16, 2006.
Gary Taverman,
Acting Deputy Assistant Secretary for Import Administration.

[FR Doc. E6-13868 Filed 8-21-06; 8:45 am]

BILLING CODE 3510-DS-S